DEPARTMENT OF EDUCATION

[Docket No.: ED-2014-ICCD-0073]

Agency Information Collection Activities; Comment Request; Case Studies of the Implementation of Kindergarten Entry Assessments

AGENCY: Department of Education (ED), Office of Planning, Evaluation and Policy Development (OPEPD).

ACTION: Notice.

SUMMARY: In accordance with the Paperwork Reduction Act of 1995 (44 U.S.C. chapter 3501 et seq.), ED is proposing a new information collection.

DATES: Interested persons are invited to submit comments on or before July 14, 2014.

ADDRESSES: Comments submitted in response to this notice should be submitted electronically through the Federal eRulemaking Portal at http://www.regulations.gov by selecting Docket ID number ED-2014-ICCD-0073 or via postal mail, commercial delivery, or hand delivery. If the regulations.gov site is not available to the public for any reason, ED will temporarily accept comments at ICDocketMgr@ed.gov. Please note that comments submitted by fax or email and those submitted after the comment period will not be accepted; ED will only accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Erica Lee, 202-260-1463.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Case Studies of the Implementation of Kindergarten Entry Assessments.

OMB Control Number: 1875-NEW.

Type of Review: A new information collection.

Respondents/Affected Public: State, Local, or Tribal Governments.

Total Estimated Number of Annual Responses: 240.

Total Estimated Number of Annual Burden Hours: 230.

Abstract: In the past decade, interest has increased in implementing Kindergarten Entry Assessments (KEAs) to better understand individual children's strengths and needs, plan instruction, pinpoint areas for program improvement and staff development, and evaluate the effectiveness of prekindergarten (PreK) programs to inform program planning and improvement. The purpose of the Kindergarten Entry Assessments implementation case studies is to document the processes, accomplishments, challenges, and solutions of four states implementing KEAs, and to share what state, district, and school personnel have learned with federal and state policymakers, and practitioners in the field. These findings will support the technical assistance efforts of the U.S. Department of Education (the Department) regarding the implementation of KEAs across the nation. This information collection consists of interview and observation protocols for case studies of the implementation of Kindergarten Entry Assessments in 24 schools within 12 districts within 4 states.

Dated: May 9, 2014.
Kate Mullan,
Acting Director, Information Collection Clearance Division, Privacy, Information and Records Management Services, Office of Management.

[FR Doc. 2014-11122 Filed 5-14-14; 8:45 am]

BILLING CODE 4000-01-P